DEPARTMENT OF COMMERCE

Census Bureau

Proposed Information Collection; Comment Request; 2020 Census Post-Enumeration Survey Independent Listing Operation

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before December 24, 2018.

ADDRESSES: Direct all written comments to Jennifer Jessup, Departmental Paperwork Clearance Officer, Department of Commerce, Room 6616, 14th and Constitution Avenue NW, Washington, DC 20230 (or via the internet at docpra@doc.gov). You may also submit comments, identified by Docket number USBC-2018-0015, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Requests for additional information or copies of the information collection instrument(s) and instructions should be directed to Robin A. Pennington, U.S. Census Bureau, 4600 Silver Hill Road, Room 2H465, Washington, DC 20233, 301-763-8132 (or via the internet at Robin.A.Pennington@census.gov).

SUPPLEMENTARY INFORMATION:

I. Abstract

As in previous censuses, the Post-Enumeration Survey (PES) for the 2020 Census will be conducted to provide estimates of census net coverage error and components of census coverage (such as correct enumerations, omissions, and erroneous enumerations, including duplicates) for housing units and people living in housing units (see Definition of Terms) for the United States and Puerto Rico, excluding remote Alaska. These coverage estimates provide insight into the quality and coverage of census results, which can be used to improve future censuses. The primary sampling unit is the Basic Collection Unit (BCU), which is the smallest unit of collection geography for 2020 Census listing operations. As in the past, the PES operations and activities must be conducted separate from and independent of the other 2020 Census operations.

The Independent Listing operation is the first field operation in the PES process. It will be conducted to obtain a complete inventory of all the housing unit addresses within the PES sample of BCUs in the United States (excluding remote Alaska) and in Puerto Rico before the 2020 Census enumeration commences. Group quarters addresses will not be listed as they are out of scope for PES.

During the Independent Listing operation, field staff, referred to as “listers,” will canvass every street, road, or other place where people might live in their assigned BCUs and construct a list of housing units using an automated data collection instrument on a laptop. The laptop will contain the data collection instrument with digital maps of the area that needs to be canvassed. Listers will attempt to contact a member of each housing unit they encounter on their route. If someone answers, the lister will provide a Confidentiality Notice and ask about the address in order to collect the address information, as appropriate. To ensure all units at an address are properly listed, the lister will then ask if there are any additional vacant or occupied units in the structure or on the property. If there are additional units, the lister will collect and update that information. To be classified as a separate unit, they must meet the housing unit definition requirement of having direct access from outside or through a common hallway, and must either have someone living there or be intended for occupancy, even if vacant at the time of the Independent Listing operation. Mobile homes and trailers, both in a park and not in a park, will also be listed, including any empty lots or pads in the parks in the BCU. Finally, any occupied camper, recreational vehicle, van, boat, tent or other location where people are living during the listing operation will also be listed as a housing unit.

If the lister does not find anyone at home after several attempts, he or she will try to collect the information from a proxy or add any found addresses to the address list by observation as a last resort. Listers will also identify the location of each housing unit by collecting map spots (i.e., Global Positioning System (GPS) coordinates). The lister will also collect information on the status of each housing unit, such as occupied, vacant, under construction, empty trailer park, etc. Completed Independent Listing BCUs will be automatically reviewed for abnormal characteristics (such as GPS information indicating that the lister was far from the units they were listing). BCUs with unusual characteristics may be subject to quality control wherein quality control listers return to the field to check a portion of units to ensure that the work performed meets Census Bureau quality standards.

Following the completion of listing for each BCU, the addresses are computer and clerically matched, on a flow basis, against the list of addresses considered valid for the census. Addresses that remain unmatched or have unresolved address status after matching will be sent to the Initial Housing Unit Followup operation, during which listers collect additional information that might allow a resolution of any differences between the Independent Listing and census address list results. Cases will also be sent to the field to resolve potential duplicates and unresolved housing unit status. The questions and procedures to be used in the Initial Housing Unit Followup phase of the Post-Enumeration Survey in the 2020 Census and all subsequent Post-Enumeration Survey phases will be published in separate Federal Register Notices.

The 2020 Census Evaluations and Experiments program will also be using the results of this PES Independent Listing for an evaluation, in conjunction with 2020 Census operations. The specific activities for this evaluation will be described in detail in future Federal Register Notices for additional 30-day comment periods for both the 2020 PES Independent Listing and the 2020 Census. These will be considered as substantive changes to both approved OMB packages.

II. Method of Collection

Independent Listing field staff will use the Census Bureau's Listing and Mapping Application (LiMA) software on government furnished laptop devices.

Definition of Terms

Components of Census Coverage—The components of census coverage include correct enumerations, erroneous enumerations, whole-person imputations, and omissions. Correct enumerations are people or housing units that were correctly enumerated in the census. Erroneous enumerations are people or housing units that were enumerated in the census but should not have been. Examples of erroneous enumerations are duplicates, nonexistent housing units or people, and people or housing units that were enumerated in the wrong place. Omissions are people and housing units that were not correctly enumerated in the census but should have been. Lastly, whole-person imputations are census records for which all of the demographic characteristics were imputed. Many of these imputations represent people in housing units where we knew the household count but did not obtain sufficient information about the people residing at the housing unit.

Net Coverage Error—Reflects the difference between the true population and the census count. If the census count was less than the actual number of people or housing units in the population, then we say there was an undercount. If the census count was more than the actual number of people or housing units in the population, then we say there was an overcount.

For more information about the Post-Enumeration Survey Program, please visit the following page of the Census Bureau's website: https://www.census.gov/coverage_measurement/post-enumeration_surveys/.

For more information about the Evaluations and Experiments Program, please visit the following document in the Census Bureau's 2020 Census Memo Series: 2020 Census Evaluations and Experiments.

III. Data

OMB Control Number: 0607-XXXX.

Form Number: NA.

Type of Review: Regular submission.

Affected Public: Individuals or Households.

Estimated Number of Respondents: 565,000 Housing Units (HUs) for Independent Listing and 85,000 HUs for Independent Listing Quality Control.

Estimated Time per Response: 5 min.

Estimated Total Annual Burden Hours: 54,167 hours.

Estimated Total Annual Cost: $0. (This is not the cost of respondents' time, but the indirect costs respondents may incur for such things as purchases of specialized software or hardware needed to report, or expenditures for accounting or records maintenance services required specifically by the collection.)

Respondent's Obligation: Mandatory.

Legal Authority: Title 13, U.S. Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-23268 Filed 10-24-18; 8:45 am]

BILLING CODE 3510-07-P